DEPARTMENT OF COMMERCE

International Trade Administration

Certified Trade Fair Program: Application

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506 (c) (2) (A)).

DATES: Written comments must be submitted on or before December 26, 2001.

ADDRESSES: Direct all written comments to Madeleine Clayton, Departmental Paperwork Clearance Officer, (202) 482-3129, Department of Commerce, Room 6086, 14th & Constitution Avenue, NW, Washington, DC 20230 (or via the Internet at MClayton@doc.gov).

FOR FURTHER INFORMATION CONTACT: Request for additional information or copies of the information collection instrument and instructions should be directed to: Don Huber, U.S. & Foreign Commercial Service, Export Promotion Services, Room 2212, 14th & Constitution Avenue, NW., Washington, DC 20230; Phone number: (202) 482-2525, and fax number: (202) 482-0115.

SUPPLEMENTARY INFORMATION:

I. Abstract

The Trade Fair Certification (TFC) program is a service of the U.S. Department of Commerce (DOC) that provides DOC endorsement and support for high quality international trade fairs that are organized by private-sector firms. The TFC program seeks to broaden the base of U.S. firms, particularly new-to-market companies by introducing them to key international trade fairs where they can achieve their export objectives. Those objectives include one or more of the following: direct sales; identification of local agents or distributors; market research and exposure; and joint venture and licensing opportunities for their products and services. The objective of the application is to make a determination that the trade fair organizer is qualified to organize and manage U.S. exhibitions at a foreign trade show, and to ensure that the show is a viable marketing opportunity for U.S. companies.

II. Method of Collection

Form ITA-4100P is sent by request to organizers of international trade fairs.

III. Data

OMB Number: 0625-0130.

Form Number: ITA-4100P.

Type of Review: Regular.

Affected Public: Companies applying to participate in Commerce Department Certified Trade Fair program events.

Estimated Number of Respondents: 90.

Estimated Time Per Response: 10 hours.

Estimated Total Annual Burden Hours: 900 hours.

Estimated Total Annual Costs: The estimated annual cost for this collection is $40,500.00 ($31,500.00 for respondents and $9,000.00 for the Federal Government).

IV. Request for Comments

Comments are invited on: (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: October 22, 2001.
Madeleine Clayton,
Departmental Paperwork Clearance Officer, Office of the Chief Information Officer.

[FR Doc. 01-27004 Filed 10-25-01; 8:45 am]

BILLING CODE 3510-FP-P